DEPARTMENT OF HOUSING AND URBAN DEVELOPMENT

[Docket No. FR-6325-N-02]

Notice of Regulatory Waiver Requests Granted for the Second Quarter of Calendar Year 2022

AGENCY: Office of the General Counsel, HUD.

ACTION: Notice.

SUMMARY: Section 106 of the Department of Housing and Urban Development Reform Act of 1989 (the HUD Reform Act) requires HUD to publish quarterly Federal Register notices of all regulatory waivers that HUD has approved. Each notice covers the quarterly period since the previous Federal Register notice. The purpose of this notice is to comply with the requirements of section 106 of the HUD Reform Act. This notice contains a list of regulatory waivers granted by HUD during the period beginning on April 1, 2022 and ending on June 30, 2022.

FOR FURTHER INFORMATION CONTACT: For general information about this notice, contact Aaron Santa Anna, Associate General Counsel for Legislation and Regulations, Department of Housing and Urban Development, 451 7th Street SW, Room 10282, Washington, DC 20410-0500, telephone 202-708-5300 (this is not a toll-free number). HUD welcomes and is prepared to receive calls from individuals who are deaf or hard of hearing, as well as individuals with speech and communication disabilities.

To learn more about how to make an accessible telephone call, please visit https://www.fcc.gov/consumers/guides/telecommunications-relay-service-trs.

For information concerning a particular waiver that was granted and for which public notice is provided in this document, contact the person whose name and address follow the description of the waiver granted in the accompanying list of waivers that have been granted in the second quarter of calendar year 2022.

SUPPLEMENTARY INFORMATION: Section 106 of the HUD Reform Act added a new section 7(q) to the Department of Housing and Urban Development Act (42 U.S.C. 3535(q)), which provides that:

1. Any waiver of a regulation must be in writing and must specify the grounds for approving the waiver;

2. Authority to approve a waiver of a regulation may be delegated by the Secretary only to an individual of Assistant Secretary or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived and the designation of the provision;

c. Indicate the name and title of the person who granted the waiver request;

d. Describe briefly the grounds for approval of the request; and

e. State how additional information about a particular waiver may be obtained.

Section 106 of the HUD Reform Act also contains requirements applicable to waivers of HUD handbook provisions that are not relevant to the purpose of this notice.

This notice follows procedures provided in HUD's Statement of Policy on Waiver of Regulations and Directives issued on April 22, 1991 (56 FR 16337). In accordance with those procedures and with the requirements of section 106 of the HUD Reform Act, waivers of regulations are granted by the Assistant Secretary with jurisdiction over the regulations for which a waiver was requested. In those cases in which a General Deputy Assistant Secretary granted the waiver, the General Deputy Assistant Secretary was serving in the absence of the Assistant Secretary in accordance with the office's Order of Succession.

This notice covers waivers of regulations granted by HUD from April 1, 2022 through June 30, 2022. For ease of reference, the waivers granted by HUD are listed by HUD program office (for example, the Office of Community Planning and Development, the Office of Fair Housing and Equal Opportunity, the Office of Housing, and the Office of Public and Indian Housing, etc.). Within each program office grouping, the waivers are listed sequentially by the regulatory section of title 24 of the Code of Federal Regulations (CFR) that is being waived. For example, a waiver of a provision in 24 CFR part 58 would be listed before a waiver of a provision in 24 CFR part 570.

Where more than one regulatory provision is involved in the grant of a particular waiver request, the action is listed under the section number of the first regulatory requirement that appears in 24 CFR and that is being waived. For example, a waiver of both § 58.73 and § 58.74 would appear sequentially in the listing under § 58.73.

Waiver of regulations that involve the same initial regulatory citation are in time sequence beginning with the earliest-dated regulatory waiver.

Should HUD receive additional information about waivers granted during the period covered by this report (the second quarter of calendar year 2021) before the next report is published (the third quarter of calendar year 2022), HUD will include any additional waivers granted for the second quarter in the next report.

Accordingly, information about approved waiver requests pertaining to HUD regulations is provided in the Appendix that follows this notice.

Damon Y. Smith,
General Counsel.

Appendix

Listing of Waivers of Regulatory Requirements Granted by Offices of the Department of Housing and Urban Development April 1, 2022 Through June 30, 2022

Note to Reader: More information about the granting of these waivers, including a copy of the waiver request and approval, may be obtained by contacting the person whose name is listed as the contact person directly after each set of regulatory waivers granted.

The regulatory waivers granted appear in the following order:

I. Regulatory waivers granted by the Office of Community Planning and Development.

II. Regulatory waivers granted by the Office of Housing.

III. Regulatory waivers granted by the Office of Public and Indian Housing.

I. Regulatory Waivers Granted by the Office of Community Planning and Development

For further information about the following regulatory waivers, please see the name of the contact person that immediately follows the description of the waiver granted.

• Regulation: 24 CFR 92.252(d)(1) Utility Allowance Requirements.

Project/Activity: The cities of El Monte, California and Pasadena, California requested a waiver of 24 CFR 92.252(d)(1) to allow use of the utility allowance established by the local public housing agency (PHA) for Baldwin Rose and Centennial Place, two HOME-assisted projects.

Nature of Requirement: The regulation at 24 CFR 92.252(d)(1) requires participating jurisdictions to establish maximum monthly allowances for utilities and services (excluding telephone) and update the allowances annually. However, participating jurisdictions are not permitted to use the utility allowance established by the local public housing authority for HOME-assisted rental projects for which HOME funds were committed on or after August 23, 2013.

Granted By: James Arthur Jemison II, Principal Deputy Assistant Secretary for Community Planning and Development.

Date Granted: April 29, 2022.

Reason Waived: The HOME requirements for establishing a utility allowances conflict with Project Based Voucher program requirements. It is not possible to use two different utility allowances to set the rent for a single unit and it is administratively burdensome to require a project owner establish and implement different utility allowances for HOME-assisted units and non-HOME assisted units in a project.

Contact: Virginia Sardone, Director, Office of Affordable Housing Programs, Office of Community Planning and Development, Department of Housing and Urban Development, 451 Seventh Street SW, Room 7160, Washington, DC 20410, telephone: (202) 708-2684.

• Regulation: 24 CFR 92.252(d)(1) Utility Allowance Requirements.

Project/Activity: San Mateo County, California requested a waiver of 24 CFR 92.252(d)(1) to allow use of the utility allowance established by the local public housing agency (PHA) for the Arroyo Green Apartments, a HOME-assisted project.

Nature of Requirement: The regulation at 24 CFR 92.252(d)(1) requires participating jurisdictions to establish maximum monthly allowances for utilities and services (excluding telephone) and update the allowances annually. However, participating jurisdictions are not permitted to use the utility allowance established by the local public housing authority for HOME-assisted rental projects for which HOME funds were committed on or after August 23, 2013.

Granted By: Jemine A. Bryon, Acting General Deputy Assistant Secretary for Community Planning and Development.

Date Granted: May 26, 2022.

Reason Waived: The HOME requirements for establishing a utility allowances conflict with Project Based Voucher program requirements. It is not possible to use two different utility allowances to set the rent for a single unit and it is administratively burdensome to require a project owner establish and implement different utility allowances for HOME-assisted units and non-HOME assisted units in a project.

Contact: Virginia Sardone, Director, Office of Affordable Housing Programs, Office of Community Planning and Development, Department of Housing and Urban Development, 451 Seventh Street SW, Room 7160, Washington, DC 20410, telephone: (202) 708-2684.

• Regulation: 24 CFR 92.252(d)(1) Utility Allowance Requirements.

Project/Activity: San Mateo County, California requested a waiver of 24 CFR 92.252(d)(1) to allow use of the utility allowance established by the local public housing agency (PHA) for Kiku Crossing, a HOME-assisted project.

Nature of Requirement: The regulation at 24 CFR 92.252(d)(1) requires participating jurisdictions to establish maximum monthly allowances for utilities and services (excluding telephone) and update the allowances annually. However, participating jurisdictions are not permitted to use the utility allowance established by the local public housing authority for HOME-assisted rental projects for which HOME funds were committed on or after August 23, 2013.

Granted By: Jemine A. Bryon, Acting General Deputy Assistant Secretary for Community Planning and Development.

Date Granted: June 29, 2022.

Reason Waived: The HOME requirements for establishing a utility allowances conflict with Project Based Voucher program requirements. It is not possible to use two different utility allowances to set the rent for a single unit and it is administratively burdensome to require a project owner establish and implement different utility allowances for HOME-assisted units and non-HOME assisted units in a project.

Contact: Virginia Sardone, Director, Office of Affordable Housing Programs, Office of Community Planning and Development, Department of Housing and Urban Development, 451 Seventh Street SW, Room 7160, Washington, DC 20410, telephone: (202) 708-2684.

II. Regulatory Waivers Granted by the Office of Housing—Federal Housing Administration (FHA)

For further information about the following regulatory waivers, please see the name of the contact person that immediately follows the description of the waiver granted.

• Regulation: 24 CFR 200.54(b).

Project/Activity: Projects insured under National Housing Act Section 213 and Section 221(d)(4).

Nature of Requirement: 24 CFR 200.54(b) requires that an agreement acceptable to the Commissioner shall require that funds provided by the mortgagor under requirements of this section must be disbursed in full for project work, material, and incidental charges, and expenses before disbursement of any mortgage proceeds.

Granted by: Julia Gordon, Assistant Secretary for the Office of Housing—FHA Commissioner.

Date Granted: June 30, 2022.

Reason Waived: The partial waiver will allow mortgage proceeds resulting from the initial issuance of a mortgage-backed security guaranteed by the Government National Mortgage Association to be disbursed immediately upon receipt but limited to no more than one half percent (0.5%) of the initially endorsed loan amount for projects insured under National Housing Act Section 213 and Section 221(d)(4) only when the required Borrower equity exceeds the amount of the initial construction draw at closing.

Contact: Willie Fobbs III, Director, Office of Multifamily Production, HTD, Office of Housing, Department of Housing and Urban Development, 451 Seventh Street SW, Room 6134, Washington, DC 20410, telephone: (202) 402-6257.

• Regulation: 24 CFR 200.73(c).

Project/Activity: Historic South End Apartments, Project No. 023-11684, Boston, Massachusetts.

Nature of Requirement: 24 CFR 200.73(c). The regulation requires that a site contain at least five rental dwelling units [of an FHA insured multifamily housing project] shall be on one site and it is part of other contiguous sites comprised of one marketable manageable real estate entity. Chapter 3 Section 3.1.30 of the MAP Guide permits a project with two or more contiguous parcels of land when the parcels comprise one marketable, manageable real estate entity. The regulation requires that a site contain at least 5 rental dwelling units and reads as follows:

(c) The improvements shall constitute a single project. Not less than five rental dwelling units or personal care units, 20 medical care beds, or 50 manufactured home pads, shall be on one site, except that such limitations do not apply to group practice facilities.

Historic South End Apartments project is a 223(f) refinance to consolidate debt on numerous Brownstone 4-story construction buildings into one loan with FHA mortgage insurance. They are situated around Tremont Street, Shawmut Avenue, and Columbus Avenue in Boston. The 27 sites on 29 land parcels contain 146 apartment units owned by Historic South End Limited Partnership, and located in Boston, Massachusetts. The Lender included in the waiver request a roster of each building's address, parcel, total site count, bedroom count, and configuration. The proposed FHA-insured mortgage amount is $42,000,000, which is $287,671 per unit of exposure. The Historic South End Apartments project is already a participant in the 542 (c) risk share portfolio, under HAP contracts, and a Tax Credit Regulatory Agreement. The owner completed $20 million in repairs and improvements to the property.

Granted by: Lopa P. Kolluri, Principal Deputy Assistant Secretary Office of Housing-Federal Housing Administration.

Date Granted: May 13, 2022.

Reason Waived: The sponsors acquired the most recent addition to Historic South End Apartments in 2013, covering all 146 of the project's units. At or prior to closing, Ownership will consolidate its eleven existing Section 8 HAP Contracts into one HAP Contract and renew that Contract into a new long-term Section 8 Contract. The new Contract will be in effect for 20 years and will include a Preservation Tail that will have an additional 11+ years on it, resulting in an effective term of 31+ years of receiving Project-Based Section 8 subsidies. The HAP Contract will carry an income eligibility requirement, requiring the Owner to rent to households earning no more than 50% of AMI. The HAP renewal request will be submitted to Mass Housing. The Historic South End Apartments preserves much needed affordable housing options for low-income residents in the South End neighborhood and is consistent with the Secretary's goal of maintaining affordable housing for low-income persons.

Contact: Thomas A. Bernaciak, Acting Director, Office of Multifamily Production, HTD, Office of Housing, Department of Housing and Urban Development, 451 Seventh Street SW, Washington, DC 20410, telephone: (202) 402-3242.

• Regulation: 24 CFR 219.220(b)(1995).

Project/Activity: Vineville Christian Towers, Macon, GA.

Nature of Requirement: 24 CFR 219.220(b)(1995) requires a Flexible Subsidy Operating Assistance Loan to be repaid in full upon the prepayment/refinance of a Section 236 insured mortgage loan.

Granted by: Vance T. Morris, Associate General Deputy Assistant Secretary for Housing

Date Granted: April 21, 2022.

Reason Waived: Christian Church Homes sold the subject property to Vineville Housing Associates Limited Partnership. The new owner submitted is completing substantial rehabilitation of over $61,000 per unit for 196 units, using new debt financing and Low Income Housing Tax Credits. Given the financing needed to support the rehabilitation, the project owner is unable to pay the remaining balance of the flexible subsidy loan. Instead, as a condition of this waiver, the project owner has extended the project's affordability an additional 20 years from the date of the closing. The Proposed Owner will repay the Flex Sub Loans in the amount of 15% of the cash (non-deferred) developer fee of 470,098. The remaining balance of the Flex Sub Loans will be secured by a Surplus Cash Note. The Proposed Owner will allocate up to 75% of surplus cash on an annual basis to pay down the loan.

Contact: John Ardovini, Transaction Division Director, Office of Recapitalization, Multifamily, Office of Housing, Department of Housing and Urban Development, 451 Seventh Street SW, Room 6222, Washington, DC 20410, telephone: (202) 402-3001.

• Regulation: 24 CFR 880.205(c).

Project/Activity: Ike Sims Village, Contract Number IL060054010, Chicago, IL

Nature of Requirement: For the purpose of determining the allowable distribution, an owner's equity investment in a project is deemed to be 10 percent of the replacement cost of the part of the project attributable to dwelling use accepted by HUD at cost certification unless the owner justifies a higher equity contribution by cost certification documentation in accordance with HUD mortgage insurance procedures.

Granted by: Lopa P. Kolluri, Principal Deputy Assistant Secretary—Federal Housing Commissioner.

Date Granted: April 28, 2022.

Reason Waived: The project's rental units are in need of modernization. To accomplish the proposed scope of work, the owner will need to defer part of the total developer fee to cover rehabilitation costs. The Illinois Housing and Development Authority requires the deferred developer fee to be repaid within the 15-year LIHTC compliance period. Absent the waiver, the owner would be limited to paying the deferred developer fee from the current permitted surplus cash, which would require a reduction in the scope of rehabilitation work. This waiver will make possible the recapitalization of the project and is consistent with the Secretary's goal of maintaining affordable housing for low-income persons.

Contact: Tobias Halliday, Director, Office of Asset Management and Portfolio Oversight, Office of Multifamily Housing Programs, Office of Housing, Department of Housing and Urban Development, 451 Seventh Street SW, Room 6162, Washington, DC 20410, telephone: (202) 402-2059.

• Regulation: 24 CFR 3282.14(b).

Alternative construction of manufactured homes, 1/16/84.

Project/Activity: Regulatory Waiver for Industry-Wide Alternative Construction Letter for Swinging Exterior Passage Doors (21-IW1-AC).

Nature of Requirement: 24 CFR 3282.14(b), Request for Alternative Construction, requires manufactured housing manufacturers to submit a request for Alternative Construction consideration for the use of construction designs or techniques that do not conform with HUD Standards, to receive permission from HUD to utilize such designs or techniques in the manufacturing process for manufactured homes.

Granted by: Julia R. Gordon, Assistant Secretary for Housing -Federal Housing Commissioner.

Date Granted: June 30, 2022.

Reason Waived: Many manufactured home manufacturers are currently facing shortages in the supply of swinging exterior passage doors that are listed or specifically certified for use in manufactured homes due to COVID-19 pandemic impacts. The major supply line of certified swinging exterior passage doors cannot meet the current and near term future demands of the manufactured housing industry, yet alternative door options are available that provide performance equivalent or superior to that required by the Standards yet cannot be utilized without an Alternative Construction approval. To resolve this matter for the whole industry in an expedient manner while protecting the health and safety of consumers and maintaining durability of the homes, this regulatory waiver was previously granted in May 2021 and renewed December 2021 in order to allow the Office of Manufactured Housing Programs to provide an industry-wide Alternative Construction approval letter that could be used by any manufacturer experiencing supply chain issues for swinging exterior passage doors. The regulatory waiver is good through June 30, 2023.

Contact: Teresa B. Payne, Administrator, Office of Manufactured Housing Programs, Office of Housing, Department of Housing and Urban Development, 451 Seventh Street SW, Room 9168, Washington, DC 20410, telephone: (202) 402-5365, Teresa.L.Payne@hud.gov.

• Regulation: 24 CFR 3282.14(b).

Project/Activity: Regulatory Waiver for Industry-Wide Alternative Construction Letter for Window Standard.

Nature of Requirement: 24 CFR 3282.14(b), Request for Alternative Construction, requires manufactured housing manufacturers to submit a request for Alternative Construction consideration for the use of construction designs or techniques that do not conform with HUD Standards, to receive permission from HUD to utilize such designs or techniques in the manufacturing process for manufactured homes.

Granted by: Julia R. Gordon, Assistant Secretary for Housing -Federal Housing Commissioner Federal Housing Administration.

Date Granted: June 30, 2022.

Reason Waived: Due to ongoing materials shortages affecting the manufactured home industry, it was necessary to extend the Regulatory Waiver initially approved in April 2020 and renewed in December 2020, to allow an alternative window standard to be used for the construction of HUD Code-compliant manufactured homes. This regulatory waiver was granted to allow the Office of Manufactured Housing Programs to provide an industry-wide Alternative Construction approval letter that could be used by any manufacturer experiencing supply chain issues for windows. The regulatory waiver is good through June 30, 2023.

Contact: Teresa B. Payne, Administrator, Office of Manufactured Housing Programs, Office of Housing, 451 Seventh Street SW, Room 9168, Washington, DC 20410, telephone: (202) 402-5365, Teresa.L.Payne@hud.gov.

• Regulation: 24 CFR 3282.14(b), Alternative construction of manufactured homes, 1/16/84.

Project/Activity: Regulatory Waiver for Industry-Wide Alternative Construction Letter for Electrical Circuit Breakers for Water Heater Installations.

Nature of Requirement: 24 CFR 3282.14(b), Request for Alternative Construction, requires manufactured housing manufacturers to submit a request for Alternative Construction consideration for the use of construction designs or techniques that do not conform with HUD Standards, to receive permission from HUD to utilize such designs or techniques in the manufacturing process for manufactured homes.

Granted by: Julia R. Gordon, Assistant Secretary for Housing—Federal Housing Commissioner.

Date Granted: June 30, 2022.

Reason Waived: Many manufactured home manufacturers are currently facing shortages in the supply of 25-ampere (amp), double-pole circuit breaks that are necessary for Rheem brand 4,500-watt, 240-volt water heater installations to conform to HUD's circuit break sizing standards. Alternative circuit breaker options are available that provide performance equivalent or superior to that required by the Standards yet cannot be utilized without an Alternative Construction approval. To resolve this matter for the whole industry in an expedient manner while protecting the health and safety of consumers and maintaining durability of the homes, this regulatory waiver was granted to allow the Office of Manufactured Housing Programs to provide an industry-wide Alternative Construction approval letter that could be used by any manufacturer experiencing supply chain issues for 25-amp circuit breakers to use an alternative electrical circuit breaker size to be used for the construction of HUD Code-compliant manufactured homes through June 30, 2023.

Contact: Teresa B. Payne, Administrator, Office of Manufactured Housing Programs, Office of Housing, Department of Housing and Urban Development, 451 Seventh Street SW, Room 9168, Washington, DC 20410, telephone: (202) 402-5365, Teresa.L.Payne@hud.gov.

III. Regulatory Waivers Granted by the Office of Public and Indian Housing

For further information about the following regulatory waivers, please see the name of the contact person that immediately follows the description of the waiver granted.

• Regulation: 24 CFR 982.161(a).

Project/Activity: Wyoming County Housing and Redevelopment Authorities.

Nature of Requirement: 24 CFR 982.161(a) states, in part, that any employee, or any contractor, subcontractor, or agent of the public housing agency (PHA), who formulates policy or influences decisions with respect to the program, may not have any direct or indirect interest in the Housing Assistance Payments (HAP) contract or in any benefits or payments under the contract during tenure or one year thereafter.

Granted by: Dominique Blom, General Deputy Assistant Secretary for Public and Indian Housing.

Date Granted: April 7, 2022.

Reason Waived: The request explained that Richard Wilbur is currently a Wyoming County Commissioner and one of his duties is to vote for the appointment of Board Members at WCHRA. Mr. Wilber currently owns an apartment complex where tenant Yvonne Suzette O'Neill has resided for the past seven years. Ms. O'Neill is a permanently disabled tenant, extremely low-income, and she is having a difficult time paying rent. Ms. O'Neill has been issued a voucher but unable to use it at her current residence because of the conflict-of-interest provision. Mr. Wilbur wanted to assist Ms. O'Neill to maintain her current residence by getting authorization to become an HCV landlord, allowing him to enter a HAP contract with WCHRA. As Commissioner Wilber holds a position as a public official (although not as part of the PHA), if the regulation were not to be waived, this would cause Ms. O'Neill to vacate her long-held residence or forgo the voucher and continue to be rent burdened. Given Ms. O'Neill's difficulty paying rent, she is at risk of eviction. This would present a hardship to the family, but also in consideration of the costs associated with moving, and the uncertainty of finding a unit and of potentially losing the housing assistance. Based on the circumstances of this request, HUD finds there is good cause to waive the requirement.

Contact: Kristen Arnold, Housing Program Specialist, Office of Public Housing and Voucher Programs, Public and Indian Housing, Department of Housing and Urban Development, 451 Seventh Street, SW Washington, DC 20140, telephone: (971) 222-2667.

• Regulation: 24 CFR 982.303(b)(1).

Nature of Requirement: Notice PIH 2021-34 Expedited Waivers for the Public Housing and Housing Choice Voucher (including Mainstream and Mod Rehab) Program(s), 24 CFR 982.303(b)(1) allows PHAs to grant a family one or more extensions of the initial voucher term regardless of the policy described in the Administrative Plan. PHAs should ensure consistency with these requests and remain in compliance with the PHA's informally adopted interim standard.

Reason Waived: PHAs were granted the opportunity to apply for certain regulatory waivers that were originally offered as part of the CARES Act waivers in Notice PIH 2021-14 to provide continued flexibility during the pandemic and pandemic recovery. HUD expeditiously responded to these waiver requests in accordance with Section 106 of the Department and Urban Development Reform Act of 1989.

Granted By: Dominique Blom, General Deputy Assistant Secretary for Public and Indian Housing.

Date Granted: April 1-June 30, 2022.

Project/Activity: Santa Rosa Housing Authority; Housing Authority of the County of Stanislaus; Suisun City Housing Authority; Ocala Housing Authority; Winnebago County Housing Authority; Jeffersonville Housing Authority; Saginaw Housing Commission; Public Housing Agency of the City of St. Paul; Rochester Housing Authority; Ithaca Housing Authority; Allen Metropolitan Housing Authority; Housing Authority of the City of Pittsburgh; Municipality Of Naguabo; South Carolina State Housing Finance and Development Authority, Virginia Beach Housing and Neighborhood Preservation; Benicia Housing Authority; Compton Housing Authority; Hartford Housing Authority; Naugatuck Housing Authority; Collier County Housing Authority; Terre Haute Housing Authority; Cambridge Housing Authority; Benton Harbor Housing Commission; High Point Housing Authority; Greensboro Housing Authority; Durham Housing Authority; Southeastern Community & Family Services; Miami Metropolitan Housing Authority; Columbia County Housing Authority; Municipality Of Gurabo; Hendry County Housing Authority; Springfield Housing Authority; Springfield Metropolitan Housing Authority; Municipality Of Mayaguez; Terrell Housing Department; Fort Walton Beach Housing Authority; Maryland Department of Housing and Community Development; Bremerton Housing Authority; Sauk County Housing Authority; St. Francis County Housing Authority; Housing Authority of the City of Glendale; Cocoa Housing Authority; Milford Housing Authority; Independence Housing Authority; Harrison Housing Authority; South Tucson Housing Authority; Housing Authority of the City of Long Beach; Housing Authority of the City of Madera; Burbank Housing Authority; Open Housing Authority of the City of National City; Middletown Housing Authority; Pompano Beach Housing Authority; Housing Authority of St. Mary's County, Maryland; Old Town Housing Authority; St. Clair Shores Housing Commission; Chatham County Housing Authority; Franklin-Vance-Warren Opportunity; Omaha Housing Authority; Northern Regional Housing Authority; Kingston Housing Authority; Knox Metropolitan Housing Authority; Morrow Metropolitan Housing Authority; Newport Housing Authority; Municipality Of Anasco; Lake City Housing Authority; Housing Authority of Hartsville; Meade County Housing Authority; Lawrence County Housing and Redevelopment Commission; Butte County Housing Authority; Kingsport Housing and Redevelopment; San Antonio Housing Authority; Denton Housing Authority; Tarrant County Housing Assistance Office; Springfield Housing Authority; Madison Housing Authority; Housing Authority of the County of Merced; Andover Housing Authority; Bristol Housing Authority (RI); Morristown Housing Authority; Muskegon Housing Commission; Rhode Island Housing; Hingham Housing Authority.

Contact: Tesia Anyanaso, Program Specialist, Office of Public and Indian Housing, Department of Housing and Urban Development, 451 Seventh St SW, Washington, DC 20410, telephone: (202) 402-7026.

• Regulation: 24 CFR 982.503(a)(3).

Project/Activity: Rochester Housing Authority.

Nature of Requirement: 24 CFR 982.503(a)(3) which provides that the Public Housing Agency (PHA) voucher payment standard schedule shall establish a single payment standard amount for each unit size, and that for each unit size, the PHA may establish a single payment standard amount for the whole Fair Market Rent (FMR) area or may establish a separate payment standard amount for each designated part of the FMR area.

Granted by: Dominique Blom, General Deputy Assistant Secretary for Public and Indian Housing.

Date Granted: May 3, 2022.

Reason Waived: In its request, RHA noted that providing different payment standards for demonstration participants will allow RHA to ensure adequate payment standards in opportunity areas while maintaining enough funding to support its other vouchers. On April 30, 2021, HUD notified RHA of its admission to the mobility demonstration award of funds. Since its admission to the demonstration, RHA has engaged with HUD in the demonstration program planning and design stage. Through this process, on March 3, 2022, RHA notified HUD via email of its intent to adopt Small Area Fair Market Rents (SAFMRs) for various Zip Codes within its jurisdiction that overlap with its opportunity areas for the demonstration. RHA anticipates applying SAFMRs within the basic range for a designated part of the FMR area, in accordance with 24 CFR 982.503(b)(ii). However, to most effectively allocate its funding and maintain a higher number of vouchers in circulation, RHA requests to only apply the SAFMR payment standards to demonstration participants and confirms its need for this waiver.

Contact: Brendan Goodwin, Senior Housing Program Specialist, Office of Public Housing and Voucher Programs, Office of Public and Indian Housing, Department of Housing and Urban Development, 451 Seventh Street SW Washington, DC 20140, telephone: (202) 708-0614.

• Regulation: 24 CFR 982.503(b).

Nature of Requirement: Notice PIH 2021-34 Expedited Waivers for the Public Housing and Housing Choice Voucher (including Mainstream and Mod Rehab) Program(s), 24 CFR 982.503(b) allows PHAs to establish payment standards up to 120 percent of the fair market rent.

Reason Waived: PHAs were granted the opportunity to apply for certain regulatory waivers that were originally offered as part of the CARES Act waivers in Notice PIH 2021-14 to provide continued flexibility during the pandemic and pandemic recovery. HUD expeditiously responded to these waiver requests in accordance with Section 106 of the Department and Urban Development Reform Act of 1989.

Granted By: Dominique Blom, General Deputy Assistant Secretary for Public and Indian Housing.

Date Granted: April 1-June 30, 2022.

Project/Activity: Housing Authority of Foley; Flagstaff Housing Authority; Suisun City Housing Authority; Ocala Housing Authority; Saginaw Housing Commission; Ithaca Housing Authority; New York City Department of Housing Preservation and Development; Allen Metropolitan Housing Authority; Roosevelt City Housing Authority; Benicia Housing Authority; Hartford Housing Authority; Collier County Housing Authority; Terre Haute Housing Authority; Benton Harbor Housing Commission; Southeastern Community & Family Services, Inc.; Columbia County Housing Authority; Municipality Of Gurabo; Scott County Redevelopment and Housing Authority; Portsmouth Housing Authority; Hendry County Housing Authority; City and County of Honolulu Housing Authority; Delaware County Housing Authority; Springfield Housing Authority; Wadesboro Housing Authority; Bergen County Housing Authority; Watertown Housing and Redevelopment Commission; Terrell Housing Department; Barron County Housing Authority; Winslow Housing Authority; Punta Gorda Housing Authority; Housing Authority of Somerset; New Orleans Housing Authority; Hagerstown Housing Authority; Maryland Department of Housing and Community Development; Union County Housing Authority; Herkimer Housing Authority; The City of New Rochelle Public Housing Authority; Rock Hill Housing Authority; Anderson County Housing Authority; Bremerton Housing Authority; Opelika Housing Authority; Troy Housing Authority; Placer County Housing Authority; Boca Raton Housing Authority; Waukegan Housing Authority; Warsaw Housing Authority; Atchison Housing Authority; Milford Housing Authority; Independence Housing Authority; Mesilla Valley Housing Authority; Town of Southampton Housing Authority; Housing Authority of Lubbock; Burnet Housing Authority; Utah County Housing Authority; Logan City Housing Authority; Bear River Regional Housing Authority; Jasper Housing Authority; Tallassee Housing Authority; Harrison Housing Authority; South Tucson Housing Authority; Oakland Housing Authority; Burbank Housing Authority; Middletown Housing Authority; Ansonia Housing Authority; Vernon Housing Authority; Pompano Beach Housing Authority; Lafayette Housing Authority; Old Town Housing Authority; Kandiyohi County Housing and Redevelopment Authority; McLeod County Housing and Redevelopment Authority; Wilmington Housing Authority; Rocky Mount Housing Authority; Roanoke-Chowan Regional Housing Authority; Omaha Housing Authority; Northern Regional Housing Authority; Kingston Housing Authority; Harrietstown Housing Authority; Peekskill Housing Authority; Logan County Metropolitan Housing Authority; Housing Authority of the City of Broken Bow; Newport Housing Authority; West Warwick Housing Authority; Coventry Housing Authority; East Greenwich Housing Authority; Municipality Of Anasco; Meade County Housing Authority; Lawrence County Housing and Redevelopment Commission; Butte County Housing Authority; Kingsport Housing and Redevelopment; LaFollette Housing Authority; Brownsville Housing Authority; Housing Authority of Anthony; Central Texas Council of Governments; Cedar City Housing Authority; Grays Harbor Housing Authority; Walla Walla Housing Authority; Madison Housing Authority; Kenosha Housing Authority; Northwest Regional Housing Authority; Plant City Housing Authority; Morristown Housing Authority; Dayton Housing Authority; Bristol Housing Authority (TN); Brenham Housing Authority; New London Housing Authority; Carlsbad Housing Agency; Zanesville Metropolitan Housing Authority; Rhode Island Housing; Richmond Housing Authority.

Contact: Tesia Anyanaso, Program Specialist, Office of Public and Indian Housing, Department of Housing and Urban Development, 451 Seventh St SW, Room 3180, Washington, DC 20410, telephone: (202) 402-7026.

• Regulation: 24 CFR 982.505(c)(4).

Nature of Requirement: Notice PIH 2021-34 Expedited Waivers for the Public Housing and Housing Choice Voucher (including Mainstream and Mod Rehab) Program(s), 24 CFR 982.505(c)(4) allows PHAs to increase the payment standard during the Housing Assistance Payment term.

Reason Waived: PHAs were granted the opportunity to apply for certain regulatory waivers that were originally offered as part of the CARES Act waivers in Notice PIH 2021-14 to provide continued flexibility during the pandemic and pandemic recovery. HUD expeditiously responded to these waiver requests in accordance with Section 106 of the Department and Urban Development Reform Act of 1989.

Granted By: Dominique Blom, General Deputy Assistant Secretary for Public and Indian Housing.

Date Granted: April 1-June 30, 2022.

Project/Activity: Housing Authority of Foley; Housing Authority of the County of Stanislaus; Ocala Housing Authority; Winnebago County Housing Authority; Jeffersonville Housing Authority; Saginaw Housing Commission; Rochester Housing Authority; Wausau Housing Authority; Hartford Housing Authority; Naugatuck Housing Authority; Collier County Housing Authority; Terre Haute Housing Authority; Benton Harbor Housing Commission; East Spencer Housing Authority; Southeastern Community & Family Services; Miami Metropolitan Housing Authority; Municipality of Gurabo; Portsmouth Housing Authority; City and County of Honolulu Housing Authority; City and County of Honolulu Housing Authority; Delaware County Housing Authority; Massachusetts Department of Housing and Community Development; Bergen County Housing Authority; Springfield Metropolitan Housing Authority; Terrell Housing Department; Barron County Housing Authority; Winslow Housing Authority; City of Norwalk Housing Authority; Maryland Department of Housing and Community Development; Biloxi Housing Authority; Beatrice Housing Authority; Coshocton Metropolitan Housing Authority; Bremerton Housing Authority; Opelika Housing Authority; St. Francis County Housing Authority; Cocoa Housing Authority; Mesilla Valley Housing Authority; Town of Southampton Housing Authority; Utah County Housing Authority; Jasper Housing Authority; Tallassee Housing Authority; South Tucson Housing Authority; Middletown Housing Authority; Southwestern Idaho Cooperative Housing Authority; Southwestern Idaho Cooperative Housing Authority; Tell City Housing Authority; Lafayette Housing Authority; St. Clair Shores Housing Commission; Chatham County Housing Authority; Franklin-Vance-Warren Opportunity; Omaha Housing Authority; Kingston Housing Authority; Newport Housing Authority; West Warwick Housing Authority; Municipality Of Anasco; Meade County Housing Authority; Lawrence County Housing and Redevelopment Commission; Butte County Housing Authority; Johnson City Housing Authority; Chattanooga Housing Authority; Kingsport Housing and Redevelopment; LaFollette Housing Authority; Brownsville Housing Authority; Southeast Tennessee Human Resource Agency; Central Texas Council of Governments; Springfield Housing Authority; Grays Harbor Housing Authority; Madison Housing Authority; Clarksburg/Harrison Housing Authority; Housing Authority of the County of Merced; Plant City Housing Authority; Bristol Housing Authority (RI); Morristown Housing Authority; Bristol Housing Authority (TN); Housing Authority of Edgewood; Mobile Housing Authority; Opp Housing Authority; Carlsbad Housing Agency; Zanesville Metropolitan Housing Authority; Columbiana Metropolitan Housing Authority; Waco Housing Authority; Hingham Housing Authority.

Contact: Tesia Anyanaso, Program Specialist, Office of Public and Indian Housing, Department of Housing and Urban Development, 451 Seventh St SW, Room 3180, Washington, DC 20410, telephone: (202) 402-7026.

• Regulation: 24 CFR 982.634(a).

Nature of Requirement: Notice PIH 2021-34 Expedited Waivers for the Public Housing and Housing Choice Voucher (including Mainstream and Mod Rehab) Program(s), 24 CFR 982.634(a) allows PHAs to extend homeownership assistance for one additional year.

Reason Waived: PHAs were granted the opportunity to apply for certain regulatory waivers that were originally offered as part of the CARES Act waivers in Notice PIH 2021-14 to provide continued flexibility during the pandemic and pandemic recovery. HUD expeditiously responded to these waiver requests in accordance with Section 106 of the Department and Urban Development Reform Act of 1989.

Granted By: Dominique Blom, General Deputy Assistant Secretary for Public and Indian Housing.

Date Granted: April 1-June 30, 2022.

Project/Activity: Rochester Housing Authority; New York City Department of Housing Preservation and Development; High Point Housing Authority; Greensboro Housing Authority; Southeastern Community & Family Services; Charleston County Housing Authority; Omaha Housing Authority; Lorain Metropolitan Housing Authority; Madison Housing Authority.

Contact: Tesia Anyanaso, Program Specialist, Office of Public and Indian Housing, Department of Housing and Urban Development, 451 Seventh St SW, Room 3180, Washington, DC 20410, telephone: (202) 402-7026.

• Regulation: 24 CFR 983.53(c), 24 CFR 5.216(b)(2), 24 CFR 5.216(h)(1), 24 CFR 5.218(a), and 24 CFR 5.218(c)(1).

Project/Activity: Vancouver Housing Authority.

Nature of Requirement: 24 CFR 983.53(c) requires that a person may not be admitted to RAD project-based voucher (PBV) project if his/her income would result in a Total Tenant Payment (TTP) greater than the rent for the unit. 24 CFR 5.216(b)(2), 24 CFR 5.216(h)(1), 24 CFR 5.218(a), and 24 CFR 5.218(c)(1) specify that assistance applicants must provide verifying documentation of Social Security number for all members of their household before they may be admitted as participants, and that processing entities must deny the eligibility of applicants who have not yet met the documentation requirements.

Granted by: Dominique Blom, General Deputy Assistant Secretary for Public and Indian Housing.

Date Granted: May 17, 2022.

Reason Waived: Vancouver Housing Authority (VHA) turns away many applicants who are otherwise income eligible because their calculated TTP exceeds the below market RAD rents and as a result, both the VHA and applicants find it cumbersome that families are determined eligible based on income limits and then later turned away once the TTP is known. VHA also provided supplemental evidence to support the waiver. Pursuant to the waiver authority provided at 24 CFR 5.100 and in light of the good cause presented, 24 CFR 983.53(c) is waived so that VHA may admit income-qualified families to RAD PBV-assisted units at the VHA Apartment Homes even if such families require zero assistance at admission. HUD also waives the requirement that applicants present documentation to verify SSNs of each household member prior to admission at Tenny Creek pursuant to a homeless preference. This requirement will be waived for 12 months or until the waiting list is closed, whichever is sooner. However, VHA must comply with the following alternative requirements: (1) Prior to admission, each Tenny Creek resident admitted pursuant to a homeless preference must submit to VHA the complete and accurate SSN assigned to each resident. (2) Within 90 days of admission, each Tenny Creek resident admitted pursuant to a homeless preference must submit to VHA the documentation referred to in 24 CFR 5.216(g)(1) to verify each such SSN. (3) VHA must deny assistance to a Tenny Creek resident admitted pursuant to a homeless preference if the resident does not meet the applicable SSN documentation and verification requirements as specified in 24 CFR 5.216, as waived by and consistent with the waiver approval letter, within 90 days of admission. (4) VHA must terminate the assistance or terminate the tenancy, or both, of a Tenny Creek resident admitted pursuant to a homeless preference if the resident does not meet the applicable SSN documentation and verification requirements specified in 24 CFR 5.216, as waived by and consistent with the waiver approval letter, within 90 days of admission.

Contact: Daniel Threet, Housing Program Specialist, Office of Public Housing and Voucher Programs, Office of Public and Indian Housing, Department of Housing and Urban Development, 451 Seventh Street SW, Room 4208, Washington, DC 20140, telephone: (202) 708-0164.

• Regulation: 24 CFR 983.302(e); 24 CFR 983.302(a)(1).

Project/Activity: Tacoma Housing Authority.

Nature of Requirement: 24 CFR 983.302(e) requires the initial contract year be calculated from the first day of the first calendar month of the Housing Assistance Payment (HAP) contract term and 24 CFR 983.302(a)(1) requires the public housing agency (PHA) to redetermine the rent to owner upon the owner's request.

Granted by: Dominique Blom, General Deputy Assistant Secretary for Public and Indian Housing.

Date Granted: June 10, 2022.

Reason Waived: Tacoma Housing Authority (THA) has not increased contract rents in its PBV program since 2019, and for its RAD PBVs it plans to apply the 2020, 2021, and 2022 OCAF adjustments September 1, 2022, which is after the most recent anniversary date of February 11, 2022. This ensures that each of the 22 properties will not receive a rent increase less than one year from the current annual anniversary of the HAP contract in accordance with 24 CFR 983.302(b)(2). Revising the anniversary dates will only impact rent determinations and there will not be any impact to the current HAP contract terms or expiration dates.

Contact: Kristen Arnold, Housing Program Specialist, Office of Public Housing and Voucher Programs, Office of Public and Indian Housing, Department of Housing and Urban Development, 451 Seventh Street SW, Room 4216, Washington, DC 20140, telephone: (971) 222-2667.

• Regulation: 24 CFR 983.301(f)(2)(ii); 24 CFR 982.517.

Project/Activity: Bucks County Housing Authority.

Nature of Requirement: 24 CFR 983.301(f)(2)(ii) requires that the PHA not establish or apply different utility allowance amounts for the PBV program and requires that same PHA utility allowance schedule applies to both the tenant-based and PBV programs. 24 CFR 982.517 requires the public housing agency (PHA) to maintain a utility allowance schedule.

Granted by: Dominique Blom, General Deputy Assistant Secretary for Public and Indian Housing.

Date Granted: June 10, 2022.

Reason Waived: Bucks County Housing Authority (BCHA) has demonstrated that the utility allowance provided under the HCV program would discourage conservation and ultimately lead to inefficient use of HAP funds at the Sellersville Senior Residences.

Contact: Nathaniel Johnson, Senior Housing Program Specialist, Office of Public Housing and Voucher Programs, Office of Public and Indian Housing, Department of Housing and Urban Development, 451 Seventh Street SW, Washington, DC 20140, telephone: (202) 402-5156.

• Regulation: 24 CFR 984.303(d).

Project/Activity: Virgin Islands Housing Authority.

Nature of Requirement: 24 CFR 984.303(d) requires that the PHA shall, in writing, extend the term of the contract of participation for a period not to exceed two years for any FSS family that requests, in writing, an extension of the contract, provided that the PHA finds that good cause exists for granting the extension. The family's written request for an extension must include a description of the need for the extension.

Granted by: Dominique Blom, General Deputy Assistant Secretary for Public and Indian Housing.

Date Granted: April 22, 2022.

Reason Waived: Virginia Islands Housing Authority has a participant who passed the end date of their two-year extension on November 30, 2020 and was not eligible to graduate at that time because they were not working. This was due to the impact of COVID on the participant's ability to receive medical attention for an injury sustained while on the job. The PHA's FSS Coordinator was on leave from January-July 2021 due to family circumstances and this participant's situation was not addressed. Upon the Coordinator's return, there was confusion regarding to whom the waiver should be submitted, resulting in a delay to a request to HUD.

Contact: Jayme Brown, Director, Community and Supportive Services Division, Office of Public Housing Investments, Office of Public and Indian Housing, Department of Housing and Urban Development, 451 Seventh Street SW, Room 5151, Washington, DC 20140, telephone (202) 402-3624.

• Regulation: 24 CFR 984.303(d).

Project/Activity: Housing Authority of the City of Napa.

Nature of Requirement: 24 CFR 984.303(d) requires that the PHA shall, in writing, extend the term of the contract of participation for a period not to exceed two years for any FSS family that requests, in writing, an extension of the contract, provided that the PHA finds that good cause exists for granting the extension. The family's written request for an extension must include a description of the need for the extension.

Granted by: Dominique Blom, General Deputy Assistant Secretary for Public and Indian Housing.

Date Granted: April 22, 2022.

Reason Waived: The Housing Authority of the City of Napa (HACN) has six participants whose original contract extension has ended or is nearing the end. HACN contends that these six participants would have successfully graduated from the FSS program; however, the COVID-19 pandemic prevented them from completing the remaining goals on their Contract of Participation.

Contact: Jayme Brown, Director, Community and Supportive Services Division, Office of Public Housing Investments, Office of Public and Indian Housing, Department of Housing and Urban Development, 451 Seventh Street SW, Room 5151, Washington, DC 20140, telephone: (202) 402-3624.

• Regulation: 24 CFR 985.3(h).

Project/Activity: Housing Authority of the County of Chester.

Nature of Requirement: 24 CFR 985.3(h) governs the deconcentration bonus, with regards to the performance indicators that are used to assess PHA Section 8 management.

Granted by: Dominique Blom, General Deputy Assistant Secretary for Public and Indian Housing.

Date Granted: May 11, 2022.

Reason Waived: In Federal Register Notice FR-6191-N-01, HUD waived this requirement for demonstration sites. HUD's letter to Chester Housing Authority was to confirm they would be adopting the waiver described in the Federal Register Notice through its authority at 24 CFR 5.110.

Contact: Brendan Goodwin, Senior Housing Program Specialist, Office of Public Housing and Voucher Programs, Public and Indian Housing, Department of Housing and Urban Development, 451 Seventh Street SW, Room 4218, Washington, DC 20140, telephone: (202) 708-0164.

• Regulation: 24 CFR 985.105, 24 CFR 985.101.

Nature of Requirement: Notice PIH 2021-34 Expedited Waivers for the Public Housing and Housing Choice Voucher (including Mainstream and Mod Rehab) Program(s), 24 CFR 985.105, 24 CFR 985.101 whereas PHAs with a fiscal year end 3/31/22, 6/30/22, or 9/30/22 may request to waive Section Eight Management Assessment Program (SEMAP) if an indicator declines as a result of operational disruptions and from its adoption of one or more CARES Act waivers.

Reason Waived: PHAs were granted the opportunity to apply for certain regulatory waivers that were originally offered as part of the CARES Act waivers in Notice PIH 2021-14 to provide continued flexibility during the pandemic and pandemic recovery. HUD expeditiously responded to these waiver requests in accordance with Section 106 of the Department and Urban Development Reform Act of 1989.

Granted By: Dominique Blom, General Deputy Assistant Secretary for Public and Indian Housing.

Date Granted: April 1-June 30, 2022.

Project/Activity: Arizona Department of Housing; Santa Rosa Housing Authority; Housing Authority of the County of Stanislaus; Ocala Housing Authority; Central Iowa Regional Housing Authority; Winnebago County Housing Authority; Jeffersonville Housing Authority; Campbellsville Housing Authority; Saginaw Housing Commission; Public Housing Agency of the City of St. Paul; Rochester Housing Authority; New York City Department of Housing Preservation and Development; Youngstown Metropolitan Housing Authority; Allen Metropolitan Housing Authority; Adams Metropolitan Housing Authority; Municipality Of Naguabo; Columbia Housing Authority; South Carolina State Housing Finance and Development; Benicia Housing Authority; Compton Housing Authority; Collier County Housing Authority; Iowa Northland Regional Housing Authority; Housing Authority of Covington; Benton Harbor Housing Commission; Housing and Redevelopment Authority of Virginia Minnesota; East Spencer Housing Authority; Southeastern Community & Family Services; Utica Housing Authority; Belmont Metropolitan Housing Authority; Berks County Housing Authority; Municipality Of Trujillo Alto; Municipality Of Gurabo; Housing Authority of Myrtle Beach; Scott County Regional Housing Authority; South Metro Housing Options; Burbank Housing Authority; Hendry County Housing Authority; Joliet Housing Authority; Springfield Housing Authority; Dowagiac Housing Commission; Coastal Community Action; Atlantic City Housing Authority; Bergen County Housing Authority; Springfield Metropolitan Housing Authority; Cumberland County Housing Authority; Municipality Of Mayaguez; Housing Authority of Slaton; Bristol Regional Housing Authority; Huntington Housing Authority; Bluefield Housing Authority; Housing Authority of the City of Santa Paula; Paragould Housing Authority; Fort Walton Beach Housing Authority; Muscatine Municipal Housing Agency; Maryland Department of Housing and Community Development; Weston Housing Authority; Penns Grove Housing Authority, Butler Metropolitan Housing Authority; Municipality of Morovis; Municipality of Adjuntas; Bremerton Housing Authority; Sauk County Housing Authority; Opelika Housing Authority; Tuscaloosa Housing Authority; St. Francis County Housing Authority; Housing Authority of the City of Glendale; Milford Housing Authority; Placer County Housing Authority; Jacksonville Housing Authority; Appalachian Foothills Housing Agency Inc.; Independence Housing Authority; New Jersey Department of Community Affairs; Mesilla Valley Housing Authority; Hornell Housing Authority; Charleston County Housing Authority; Logan City Housing Authority; Bear River Regional Housing Authority; Tallassee Housing Authority; Hot Springs Housing Authority; City of Tempe Housing Authority; Housing Authority of the County of Yolo; Housing Authority of the City of Long Beach; Housing Authority of the City of Madera; Middletown Housing Authority; Oskaloosa Municipal Housing Agency; Albia Housing Agency; Southwestern Idaho Cooperative Housing Authority; Greenville Housing Authority; Orange County Housing Authority; Roanoke Chowan Regional Housing Authority; Chatham County Housing Authority; Franklin-Vance-Warren Opportunity; Northern Regional Housing Authority; Kingston Housing Authority; Portsmouth Metropolitan Housing Authority; Lorain Metropolitan Housing Authority; Ironton Metropolitan Housing Authority; Knox Metropolitan Housing Authority; Morrow Metropolitan Housing Authority; Housing Authority of the City of Broken Bow; Housing Authority of the City of Stillwater; Housing Authority of Malheur and Harney Counties; Providence Housing Authority; Newport Housing Authority; Municipality of Carolina; Municipality of Maricao; Municipality of Vega Baja; Lake City Housing Authority; Housing Authority of Hartsville; Meade County Housing Authority; Lawrence County Housing and Redevelopment Commission; Butte County Housing Authority; Denton Housing Authority; Tarrant County Housing Assistance Office; Loudoun County Office of Housing; Springfield Housing Authority; Marinette County Housing Authority; Clarksburg/Harrison Housing Authority; Housing Authority of the City of Statesboro; Springfield Housing Authority; Frederick Housing Authority; Hocking Metropolitan Housing Authority; Bristol Housing Authority (RI); Dayton Housing Authority; Brenham Housing Authority; Housing Authority of the City of San Buenaventura; Carlsbad Housing Agency; Muskegon Housing Commission; Saratoga Springs Housing Authority; Greene Metropolitan Housing Authority; Northeast Oregon Housing Authority; Rhode Island Housing; Idaho Housing and Finance Association; Hingham Housing Authority.

Contact: Tesia Anyanaso, Program Specialist, Office of Field Operations, Office of Public and Indian Housing, Department of Housing and Urban Development, 451 Seventh St. SW, Room 3180, Washington, DC 20410, telephone: (202) 402-7026.

[FR Doc. 2022-26413 Filed 12-2-22; 8:45 am]

BILLING CODE P